DEPARTMENT OF COMMERCE

Patent and Trademark Office

Submission for OMB Review; Comment Request; “Public Search Facility User ID and Badging”

The United States Patent and Trademark Office (USPTO) will submit to the Office of Management and Budget (OMB) for clearance the following proposal for collection of information under the Paperwork Reduction Act (44 U.S.C. Chapter 35).

Agency: United States Patent and Trademark Office, Commerce.

Title: Public Search Facility User ID and Badging.

OMB Control Number: 0651-0041.

Forms:

• PTO-2030

• PTO-2224

Number of Respondents: 6,250 responses per year.

Average Hours per Response: The USPTO estimates that it will take the public between approximately 5 minutes (0.08 hours) and 10 minutes (0.17 hours) to complete the information in this collection, depending on the application. This includes the time to gather the necessary information, prepare the appropriate form, and submit the completed request to the USPTO.

Burden Hours: 500 hours.

Cost Burden: $1,501.96.

Needs and Uses:

This collection covers information that individuals submit in applications to establish a USPTO online access account. This application allows users to obtain, renew, or replace online access account cards which provide access to the electronic search system at the Public Search Facility. The public may apply for an online access account only at the Public Search Facility reference desk by providing the completed application (including contact information) and proper identification. The access account cards include a bar-coded user number and an expiration date. Users may renew their account card in person by validating and updating the required information and may obtain a replacement for a lost account card by providing proper identification. Users who wish to register for the voluntary training courses may do so by completing the appropriate form.

This collection also covers information in applications to establish, renew, or replace security identification badges issued under the authority provided in 41 CFR part 102-81 to members of the public who wish to access the Public Search Facility. Users may apply for a security badge in person at the USPTO Security Office by providing the completed application (including applicant and contact information) and presenting a valid form of identification with photograph. The security badges include a color photograph of the user and must be worn always while at the USPTO facilities.

Frequency: On occasion.

Respondent's Obligation: Required to Obtain or Retain Benefits.

OMB Desk Officer: Nicholas A. Fraser, email: Nicholas_A._Fraser@omb.eop.gov. Once submitted, the request will be publicly available in electronic format through reginfor.gov. Follow the instructions to view Department of Commerce collections currently under review by OMB.

Further information can be obtained by:

• Email: InformationCollection@uspto.gov. Include “0651-0041 copy request” in the subject line of the message.

• Mail: Marcie Lovett, Records and Information Governance Division Director, Office of the Chief Information Technology Officer, United States Patent and Trademark Office, P.O. Box 1450, Alexandria, VA 22313-1450.

Written comments and recommendations for the proposed information collection should be sent on or before May 17, 2018 to Nicholas A. Fraser. OMB Desk Officer, via email to Nicholas_A._Fraser@omb.eop.gov.or by fax to 202-395-5167, marked to the attention of Nicholas A. Fraser.

Marcie Lovett,
Records and Information Governance Division Director, Office of the Chief Technology Officer, United States Patent and Trademark Office.

[FR Doc. 2018-08019 Filed 4-16-18; 8:45 am]

BILLING CODE 3510-16-P